DEPARTMENT OF DEFENSE

Office of the Secretary

Charter Renewal of Department of Defense Federal Advisory Committees

AGENCY: Office of the Secretary, Department of Defense.

ACTION: Renewal of Federal Advisory Committee.

SUMMARY: The Department of Defense is publishing this notice to announce that it is renewing the charter for the Inland Waterways Users Board (“the Board”).

FOR FURTHER INFORMATION CONTACT: Jim Freeman, Advisory Committee Management Officer for the Department of Defense, 703-692-5952.

SUPPLEMENTARY INFORMATION: The Board's charter is being renewed pursuant to 33 U.S.C. 2251(a), and in accordance with the Federal Advisory Committee Act (FACA) (5 U.S.C., App) and 41 CFR 102-3.50(a). The Board's charter and contact information for the Board's Designated Federal Officer (DFO) can be found at https://www.facadatabase.gov/FACA/apex/FACAPublicAgencyNavigation.

Pursuant to 33 U.S.C. 2251(a), the Board shall be composed of eleven members appointed to serve as representative members. The members shall be selected so as to represent various regions of the country and a spectrum of the primary users and shippers utilizing the inland and intracoastal waterways for commercial purposes. Due consideration shall be given to assure a balance among the members based on the ton-mile shipments of the various categories of commodities shipped on inland waterways. In addition, the Secretary of the Army shall designate, and the Secretaries of Agriculture, Transportation, and Commerce may each designate, a representative to act as an observer of the Board.

Consistent with 33 U.S.C. 2251(a), the Secretary of the Army, as the DoD Sponsor, shall designate one Board member to serve as the Board's Chairperson. The Secretary of Defense, Deputy Secretary of Defense, or the Chief Management Officer for the DoD may approve the appointment of a Vice Chair in accordance with DoD policy. The Chair shall appoint a representative of the Board to serve as an advisor to the project development team for a qualifying project or the study or design of a commercial navigation feature or component of the inland waterways and inland harbors of the United States. The Chair and the project development team member appointed by the Chair may sign the project management plan for the qualifying project or the study or design of a commercial navigation feature or component of the inland waterways and inland harbors of the United States pursuant to 33 U.S.C. 2251(b)(3) and (e).

The Board, in accordance with 33 U.S.C. 2251(b)(2), shall provide advice and recommendations to: a. The Secretary regarding construction and rehabilitation priorities and spending levels prior to the development of the budget proposal of the President for a given fiscal year; b. Congress regarding any feasibility report for a project on the inland waterway system that has been submitted to Congress pursuant to 33 U.S.C. 2282d; c. Congress regarding an increase in the authorized cost of those features and components; d. Congress regarding construction and rehabilitation priorities and spending levels no later than 60 days after the date of the submission of the budget proposal of the President to Congress; e. and the Secretary and Congress on the development of a long-term capital investment program in accordance with 33 U.S.C. 2251(d).

The Secretary of Defense, pursuant to 33 U.S.C. 2251(c), shall: a. Communicate no less frequently than once each quarter to the Board the status of the study, design, or construction of all commercial navigation features or components of the inland waterways or inland harbors of the United States; and b. submit to the Board a courtesy copy of all completed feasibility reports relating to a commercial navigation feature or component of the inland waterways or inland harbors of the United States.

The public or interested organizations may submit written statements to the Board's membership about the Board's mission and functions. Written statements may be submitted at any time or in response to the stated agenda of planned meeting of the Board. All written statements shall be submitted to the DFO for the Board, and this individual will ensure that the written statements are provided to the membership for their consideration.

Dated: March 22, 2019.
Aaron T. Siegel,
Alternate OSD Federal Register, Liaison Officer, Department of Defense.

[FR Doc. 2019-05915 Filed 3-27-19; 8:45 am]

BILLING CODE 5001-06-P